DEPARTMENT OF TRANSPORTATION

Federal Aviation Administration

14 CFR Part 39

[Docket No. 2002-NM-31-AD; Amendment 39-12694; AD 2002-06-16]

RIN 2120-AA64

Airworthiness Directives; Boeing Model 767-300 Airplanes That Have Been Modified in Accordance With Supplemental Type Certificate (STC) ST00973WI-D

AGENCY: Federal Aviation Administration, DOT.

ACTION: Final rule; correction.

SUMMARY: This document corrects a typographical error that appeared in airworthiness directive (AD) 2002-06-16 that was published in the Federal Register on April 2, 2002 (67 FR 15468). The typographical error resulted in reference to an incorrect STC number. This AD is applicable to certain Boeing Model 767-300 airplanes. This AD requires removing each sidewall-mounted reading light in the attendant crew rest compartment, installing cover plates in place of the existing reading lights, removing each reading light switch, and installing a new reading light in place of the existing light switch.

DATES: Effective April 17, 2002.

FOR FURTHER INFORMATION CONTACT: Gary D. Park, Aerospace Engineer, Airframe Branch, ACE-118W, FAA, Wichita Aircraft Certification Office, 1801 Airport Road, Room 100, Mid-Continent Airport, Wichita, Kansas 67209; telephone (316) 946-4123; fax (316) 946-4407.

SUPPLEMENTARY INFORMATION: Airworthiness Directive (AD) 2002-06-16, amendment 39-12594, applicable to certain Boeing Model 767-300 airplanes, was published in the Federal Register on April 2, 2002 (67 FR 15468). That AD requires removing each sidewall-mounted reading light in the attendant crew rest compartment, installing cover plates in place of the existing reading lights, removing each reading light switch, and installing a new reading light in place of the existing light switch.

As published, that AD specifies that the referenced STC number is STC00973WI-D in the Subject Heading (Airworthiness Directives) and Supplementary Information section of the preamble of the AD, as well as in the regulatory text of the Applicability section of the AD. The FAA finds that correction of a typographical error in that STC number is necessary. Where the existing AD specifies the STC number as STC00973WI-D, this AD replaces that incorrect STC number with the correct STC number, ST00973WI-D.

Since no other part of the regulatory information has been changed, the final rule is not being republished in the Federal Register.

The effective date of this AD remains April 17, 2002.

Nonregulatory text:

On page 15468 in the first column under the subject heading, “Airworthiness Directives,” reference to “STC00973WI-D” is corrected to “ST00973WI-D” and reads as follows:

* * * * *

Airworthiness Directives; Boeing Model 767-300 Airplanes That Have Been Modified in Accordance with Supplemental Type Certificate (STC) ST00973WI-D

* * * * *

On page 15468 in the second column under the heading, Supplementary Information, in the second sentence, reference to “STC00973WI-D” is corrected to ”ST00973WI-D” and reads as follows:

* * * * *

The sidewall-mounted reading lights in the attendant crew rest compartment of those airplanes have been modified in accordance with Supplemental Type Certificate (STC) ST00973WI-D.

* * * * *

Regulatory text:

PART 39—AIRWORTHINESS DIRECTIVES

§ 39.13 [Corrected]

On page 15469 under the “Applicability” section of AD 2002-06-16, reference to “STC00973WI-D” is corrected to “ST00973WI-D” and reads as follows:

* * * * *

Applicability: Model 767-300 airplanes that have been modified in accordance with Supplemental Type Certificate ST00973WI-D; certificated in any category.

* * * * *

Issued in Renton, Washington, on March 17, 2003.
Michael J. Kaszycki,
Acting Manager, Transport Airplane Directorate, Aircraft Certification Service.

[FR Doc. 03-6993 Filed 3-24-03; 8:45 am]

BILLING CODE 4910-13-P